DEPARTMENT OF AGRICULTURE

Rural Business-Cooperative Service

[Docket No. RBS-21-BUSINESS-0005]

Notice of Request for Extension of a Currently Approved Information Collection

AGENCY: Rural Business—Cooperative Service, USDA.

ACTION: Notice and request for comments.

SUMMARY: In accordance with the Paperwork Reduction Act of 1995, this notice announces the intention of the above-named agency to request Office of Management and Budget's (OMB) approval for an extension of a currently approved information collection in support of Business and Industrial Loan Programs.

DATES: Comments on this notice must be received by June 1, 2021.

FOR FURTHER INFORMATION CONTACT: Arlette Mussington, Rural Development Innovation Center—Regulations Management Division, USDA, 1400 Independence Avenue SW, Room 4227, South Building, Washington, DC 20250-1522. Telephone: (202) 720-2825. Email arlette.mussington@usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that RBS is submitting to OMB for extension.

Comments are invited on: (a) Whether the proposed collection of information is necessary for the proper performance of the functions of the Agency, including whether the information will have practical utility; (b) The accuracy of the Agency's estimate of the burden of the proposed collection of information including the validity of the methodology and assumptions used; (c) Ways to enhance the quality, utility and clarity of the information to be collected; and (d) Ways to minimize the burden of the collection of information on those who are to respond, including through the use of appropriate automated, electronic, mechanical, or other technological collection techniques or other forms of information technology.

Comments may be sent by the Federal eRulemaking Portal: Go to http://www.regulations.gov and, in the lower “Search Regulations and Federal Actions” box, select “RBS” from the agency drop-down menu, then click on “Submit.” In the Docket ID column, select RBS-21-BUSINESS-0005 to submit or view public comments and to view supporting and related materials available electronically. Information on using Regulations.gov, including instructions for accessing documents, submitting comments, and viewing the docket after the close of the comment period, is available through the site's “User Tips” link.

Title: Business and Industry Loan Program.

OMB Number: OMB No. 0570-0014.

Expiration Date of Approval: November 30, 2021.

Type of Request: Extension of a currently approved information collection.

Abstract: The Business and Industry (B&I) program was legislated in 1972, under Section 310B of the Consolidated Farm and Rural Development Act, as amended. The purpose of the program is to improve, develop, or finance businesses, industries, and employment and improve the economic and environmental climate in rural communities, including pollution abatement and control. This purpose is achieved through bolstering the existing private credit structure by making direct loans, thereby providing lasting community benefits. The B&I program is administered by the Agency through Rural Development State and sub-State Offices serving the State.

The collected information is submitted to the B&I loan official by loan applicants and commercial lenders for use in making program eligibility, financial feasibility determinations and loan security determinations as required by the Con Act.

The Agency is requesting an extension due to the number of applications submitted by borrowers remained unchanged over the past 3 years since the collection was last approved.

Estimate of Burden: Public reporting for this collection of information is estimated to average 3 hours per response.

Respondents: Individuals, rural businesses, for profit businesses, nonprofit businesses, Indian tribes, public bodies, cooperatives.

Estimated Number of Respondents: 16.

Estimated Number of Responses per Respondent: 4.31.

Estimated Number of Responses: 69.

Estimated Total Annual Burden on Respondents: 228 hours.

Copies of this information collection can be obtained from Arlette Mussington, Innovation Center—Regulations Management Division, at (202) 720-2825. Email: arlette.mussington@usda.gov.

All responses to this notice will be summarized and included in the request for OMB approval. All comments will become a matter of public record.

Mark Brodziski,
Acting Administrator, Rural Business-Cooperative Service.

[FR Doc. 2021-06807 Filed 4-1-21; 8:45 am]

BILLING CODE 3410-XY-P